SMALL BUSINESS ADMINISTRATION

Advisory Committee on Veterans Business Affairs; Public Meeting

The U.S. Small Business Administration (SBA), pursuant to the Veterans Entrepreneurship and Small Business Development Act of 1999 (Pub. L. 106-50), will host its second meeting of the Advisory Committee on Veterans Business Affairs for fiscal year 2004. The meeting will be held on June 1-2, 2004, from 9 a.m.-5 p.m. in the Eisenhower conference room, located on the 2nd floor, side B at the SBA, 409 3rd Street, SW., Washington, DC, 20416. If you have any questions or concerns regarding this meeting, please contact Ms. Cheryl Clark in The Office of Veterans Business Development (OVBD) at (202) 619-1697.

Matthew K. Becker,
Committee Manager Officer, Office of the Administrator.

[FR Doc. 04-11759 Filed 5-24-04; 8:45 am]

BILLING CODE 8025-01-P